DEPARTMENT OF JUSTICE

Bureau of Prisons

28 CFR Part 544

[BOP-1096-F]

RIN 1120-AA92

Occupational Education Programs

AGENCY: Bureau of Prisons, Justice.

ACTION: Final rule.

SUMMARY: In this document, the Bureau of Prisons (Bureau) amends its regulations on occupational education programs to allow inmates currently under an order of deportation, exclusion, or removal, to participate in Bureau occupational education programs if Bureau resources are available after participation by inmates who will be released within the United States. This rule also removes obsolete or redundant provisions. We intend this amendment to help ensure that we allocate available educational opportunities for occupational training to inmates who will be returning to the community within, rather than outside, the United States upon release.

DATES: This rule is effective December 19, 2003.

ADDRESSES: Rules Unit, Office of General Counsel, Bureau of Prisons, 320 First Street, NW., Washington, DC 20534.

FOR FURTHER INFORMATION CONTACT: Sarah Qureshi, Office of General Counsel, Bureau of Prisons, phone (202) 307-2105 e-mail boprules@bop.gov.

SUPPLEMENTARY INFORMATION: The Bureau published this rule change as a proposed rule on July 17, 2000 (65 FR 44401). We received no comments on the proposed rule.

What Will This Rule Change Do?

This rule change revises our regulations on occupational education programs to allow inmates currently under an order of deportation, exclusion, or removal, to participate in Bureau occupational education programs if Bureau resources are available after participation by inmates who will be released within the United States. This rule change also removes obsolete or redundant provisions.

The proposed rule which we published on July 17, 2000, would have excluded inmates under orders of deportation, exclusion or removal from participation in Bureau occupational education programs. However, after internal deliberation, the Bureau has determined that there is a less restrictive alternative to excluding such inmates from participation: We will instead allow participation by such inmates if Bureau resources are available after participation by inmates who will be released within the United States.

In limiting participation by inmates under an order of deportation, removal, or exclusion from consideration, we intend to help ensure that available educational opportunities for occupational training ordinarily will be allocated to inmates who will be returning to the community within, rather than outside, the United States upon release.

Under these rules, regardless of availability of resources, we may consider an inmate or detainee currently under an order of deportation, exclusion, or removal for placement in an occupational education program if the Attorney General determines that the inmate or detainee cannot be removed from the United States because the designated country of removal will not accept his/her return.

Under internal agency procedures, the Bureau of Immigration and Customs Enforcement (BICE, formerly the Immigration and Naturalization Service) is responsible for informing us when an inmate/detainee's designated country of removal will not accept his/her return.

In these regulations, we revised the occupational education application procedures consistent with our revised procedures for postsecondary education programs (see our proposed rule published on July 17, 2000 at 65 FR 44399). We also reorganized the provisions to remove obsolete or redundant provisions and improve clarity.

Executive Order 12866

The Office of Management and Budget (OMB) determined that certain rules are part of a category of actions which are not “significant regulatory actions” under section 3(f) of Executive Order 12866. Because this rule falls within that category, OMB did not review it.

Executive Order 13132

This regulation will not have substantial direct effects on the States, on the relationship between the national government and the States, or on distribution of power and responsibilities among the various levels of government. Under Executive Order 13132, this rule does not have sufficient federalism implications for which we would prepare a Federalism Assessment.

Regulatory Flexibility Act

The Director of the Bureau of Prisons, under the Regulatory Flexibility Act (5 U.S.C. 605(b)), reviewed this regulation. By approving it, the Director certifies that it will not have a significant economic impact upon a substantial number of small entities because: This rule is about the correctional management of offenders committed to the custody of the Attorney General or the Director of the Bureau of Prisons, and its economic impact is limited to the Bureau's appropriated funds.

Unfunded Mandates Reform Act of 1995

This rule will not cause State, local and tribal governments, or the private sector, to spend $100,000,000 or more in any one year, and it will not significantly or uniquely affect small governments. We do not need to take action under the Unfunded Mandates Reform Act of 1995.

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of United States-based companies to compete with foreign-based companies in domestic and export markets.

List of Subjects in 28 CFR Part 544

Prisoners.

Harley G. Lappin,
Director, Bureau of Prisons.

Under the rulemaking authority vested in the Attorney General in 5 U.S.C. 552(a) and delegated to the Director, Bureau of Prisons, we amend 28 CFR part 544 as follows.

SUBCHAPTER C—INSTITUTIONAL MANAGEMENT

PART 544—EDUCATION

1. Revise the authority citation for 28 CFR part 544 to read as follows:

Authority: 5 U.S.C. 301; 18 U.S.C. 3621, 3622, 3624, 4001, 4042, 4081, 4082 (Repealed in part as to offenses committed on or after November 1, 1987), 5006-5024 (Repealed October 12, 1984 as to offenses committed after that date), 5039; 28 U.S.C. 509, 510.

2. Subpart F is revised to read as follows:

Subpart F—Occupational Education Programs
Sec.
544.50 Purpose and scope.
544.51 Procedures.
544.52 Levels of Occupational Education Programs.

Subpart F—Occupational Education Programs

§ 544.50 Purpose and scope.

The Bureau of Prisons offers eligible inmates the opportunity under its occupational education programs to participate in occupational education courses for the purpose of obtaining marketable skills designed to enhance post-release employment opportunities.

§ 544.51 Procedures.

(a) Eligibility. All inmates are eligible to participate in an institution's occupational education program. An eligible inmate must apply through the inmate's unit team for placement consideration. The unit team will determine whether the occupational education course is appropriate for the inmate's apparent needs.

(b) Special considerations for inmates under orders of deportation, exclusion, or removal: (1) Generally, inmates under orders of deportation, exclusion, or removal may participate in an institution's occupational education program if Bureau resources permit after meeting the needs of other eligible inmates.

(2) Inmates under orders of deportation, exclusion, or removal who the Attorney General has determined cannot be removed from the United States because the designated country of removal will not accept the inmate's return are exempted from the limitation in paragraph (b)(1) of this section, and may participate in an institution's occupational education in the same manner as other eligible inmates.

§ 544.52 Levels of Occupational Education Programs.

Occupational education programs are offered at the certificate level and the classroom level. Each level may include the following types of training:

(a) Exploratory Training. Exploratory training is a study of occupations and industries for the purpose of providing the student with a general knowledge of the occupation and the world of work, rather than specific skill development.

(b) Marketable Training. Marketable training provides specific entry-level or advanced job skills. Marketable training may include “live work”, that is, the training would result in a product or service produced by the inmate for actual use by the institution, FPI, another federal agency, or community service project.

(c) Apprentice Training. Apprentice training provides an inmate the opportunity to participate in training which prepares the inmate for employment in various trades through structured apprenticeship programs approved at the state and national levels by the Bureau of Apprenticeship and Training, U.S. Department of Labor.

[FR Doc. 03-28853 Filed 11-18-03; 8:45 am]

BILLING CODE 4410-05-P